DEPARTMENT OF HEALTH AND HUMAN SERVICES

Food and Drug Administration

Industry Exchange Workshop to Celebrate Food and Drug Administration Centennial: Past, Present, and Future of Regulated Food, Drugs, Nutritional Supplements, and Medical Devices; Public Workshop

AGENCY: Food and Drug Administration, HHS.

ACTION: Notice of public workshop.

SUMMARY: The Food and Drug Administration (FDA) Philadelphia District, in cooperation with the Chemical Heritage Foundation (CHF), is announcing a workshop on past, current, and future issues and challenges in FDA regulation as part of the celebration of FDA's 100-year anniversary. Topics for discussion include: Turning points in FDA history; the impact of changes in science and technology on FDA regulation, regulation in the globalized economy, consumer access to information in the regulatory environment; and a risk-based approach to regulation as a model for the future. The purpose of this 1-day workshop for consumers, industry, academia, and regulators is to promote dialogue among regulators and these stakeholders.

Date and Time: The public workshop will be held on Tuesday, May 16, 2006, from 9 a.m. to 5 p.m.

Location: The public workshop will be held at the Chemical Heritage Foundation, 315 Chestnut St., Philadelphia, PA 19106, 215-873-8214, FAX: 215-629-5249.

Contact: Marie Falcone, Food and Drug Administration, U.S. Customhouse, 200 Chestnut St., rm. 900, Philadelphia, PA 19106, 215-717-3703, FAX: 215-597-5798, e-mail: Marie.Falcone@fda.hhs.gov.

Registration: Send registration information (including name, title, firm name, address, telephone, fax number) and the registration fee of $20.00 payable to the Chemical Heritage Foundation, 315 Chestnut St., Philadelphia, PA 19106. To register via the Internet go to http://www.chemheritage.org/events/fda/index.html. (FDA has verified the Web site address, but is not responsible for subsequent changes to the Web site after this document publishes in the Federal Register.) The registrar will also accept payment by major credit cards. The registration fee for FDA Philadelphia District employees is waived.

For more information on the meeting, or for questions about registration, contact the Chemical Heritage Foundation (CHF) at 215-873-8214, FAX: 215-629-5249, or via e-mail: arthurd@chemheritage.org.

Attendees are responsible for their own accommodations.

The registration fee will be used to offset the expenses of hosting the conference, including meals, refreshments, meeting rooms, and materials. Space is limited, therefore interested parties are encouraged to register early. Limited onsite registration may be available. Please arrive early to ensure prompt registration.

If you need special accommodations due to a disability, please contact Marie Falcone (see Contact) at least 7 days in advance of the workshop.

SUPPLEMENTARY INFORMATION: The “FDA Past, Present, and Future of Regulating Food, Drugs, Medical Devices, and Nutritional Supplements” workshop helps fulfill the Department of Health and Human Services' and FDA's important mission to protect the public health by encouraging informed dialogue on the future direction of FDA regulation in the context of its historical accomplishments.

The workshop will also help to implement the objectives of section 406 of the FDA Modernization Act (21 U.S.C. 393) and the FDA Plan for Statutory Compliance, which include working more closely with stakeholders and providing access to scientific and technical expertise. Finally, the workshop furthers the goals of the Small Business Regulatory Enforcement Fairness Act (Public Law 104-121) by providing outreach activities by Government agencies directed to small businesses.

Dated: April 28, 2006.
Jeffrey Shuren,
Assistant Commissioner for Policy.

[FR Doc. 06-4185 Filed 5-1-06; 10:37 am]

BILLING CODE 4160-01-S